DEPARTMENT OF STATE

[Public Notice: 5858]

Bureau of Consular Affairs, Passport Services; Notice of Information Collection Under Emergency Review: U.S. Passport Demand Study Phase II; SV-2007-0021; OMB Control Number 1405-xxxx

AGENCY: Department of State.

ACTION: Notice of Request for Emergency OMB approval.

SUMMARY: The Department of State has submitted the following information collection request to the Office of Management and Budget (OMB) for review and approval in accordance with the emergency review procedures of the Paperwork Reduction Act of 1995.

Title of Information Collection: U.S. Passport Demand Study Phase II.

Type of Request: Emergency Review.

Originating Office: Bureau of Consular Affairs, CA/PPT.

Form Number: SV-2007-0021.

Respondents: Current and potential future Canadian and Mexican land border crossers.

Estimated Number of Respondents: Approximately 4,000 respondents.

Average Hours per Response: 10 minutes per response.

Total Estimated Burden: 667 hours.

Frequency: One time.

Obligation to Respond: Voluntary.

The proposed information collection is published to obtain comments from the public and affected agencies. Emergency review and approval of this collection has been requested from OMB by July 6, 2007. If granted, the emergency approval is only valid for 180 days. Comments should be directed to the State Department Desk Officer, Office of Information and Regulatory Affairs, Office of Management and Budget (OMB), Washington, DC 20530. Fax: 202-395-6974.

During the first 60 days of this emergency approval period, a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

Abstract: The purpose of this telephone survey of a representative sample of U.S. households selected from areas with the largest numbers of land border crossers, is to establish an accurate estimate of U.S. citizens who will apply for a new passport for cross-border travel (land travel between Mexico and the U.S. as well as Canada and the U.S.) over the next several years, and especially within the next six to 12 months.

Methodology: All interviews will be collected using a state-of-the-art Computer Assisted Telephone Interviewing (CATI) system. This system allows interviewers to enter responses directly into a computer, which instantaneously feeds the information from each station to a mainframe computer.

For Additional Information: Public comments, or requests for additional information, regarding the collection listed in this notice should be directed to Alan J. Swygert, Bureau of Consular Affairs, Passport Services, U.S. Department of State, Washington, DC 20520, who may be reached on 202-663-2647, or at SwygertAJ@state.gov.

Dated: June 27, 2007.
Ann Barrett,
Deputy Assistant Secretary, Bureau of Consular Affairs, Office of Passport Services, Department of State.

[FR Doc. E7-12897 Filed 7-2-07; 8:45 am]

BILLING CODE 4710-06-P